DEPARTMENT OF AGRICULTURE

Food and Nutrition Service

Agency Information Collection Activities: Proposed collection; Comment Request—Study of Non-Response to the School Meals Application Verification Process

AGENCY: Food and Nutrition Service (FNS), USDA.

ACTION: Notice and request for comment.

SUMMARY: In accordance with the Paperwork Reduction Act of 1995, this notice invites the general public and other public agencies to comment on this proposed information collection. This is a new collection for the Study of Non-Response to the School Meals Application Verification Process.

DATES: Written comments must be received on or before February 27, 2017.

ADDRESSES: Comments may be sent to: Courtney Paolicelli, Food and Nutrition Service, U.S. Department of Agriculture, Office of Policy Support, Special Nutrition Evaluation Branch, 3101 Park Center Drive, 10th Floor, Room 1014, Alexandria, VA 22302. Comments may also be submitted via fax to the attention of Courtney Paolicelli at 703-305-2576 or via email to courtney.paolicelli@fns.usda.gov. Comments will also be accepted through the Federal eRulemaking Portal. Go to http://www.regulations.gov, and follow the online instructions for submitting comments electronically.

All written comments will be open for public inspection at the office of the Food and Nutrition Service during regular business hours (8:30 a.m. to 5:00 p.m., Monday through Friday) at 3101 Park Center Drive, 10th Floor, Room 1014, Alexandria, Virginia 22302. All responses to this notice will be summarized and included in the request for Office of Management and Budget approval. All comments will be a matter of public record.

FOR FURTHER INFORMATION CONTACT: Requests for additional information or copies of this information collection should be directed to Courtney Paolicelli at 703-605-4370 or courtney.paolicelli@fns.usda.gov.

SUPPLEMENTARY INFORMATION: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Title: Study of Non-Response to the School Meals Application Verification Process.

Form Number: N/A.

OMB Number: Not yet assigned.

Expiration Date: Not yet determined.

Type of Request: New information collection.

Abstract: The National School Lunch Program (NSLP) and the School Breakfast Program (SBP) provide subsidized lunches and breakfasts to millions of students each school day. Students are certified eligible to receive free or reduced-price (F/RP) meals through application or direct certification. When eligibility is determined using an application process, school districts must annually verify eligibility of children from a sample of household applications for that school year, unless the State agency assumes responsibility for verification.

This study will examine the accuracy of district verification procedures using a case study approach similar to a previous study conducted for FNS, the Case Study of National School Lunch Program Verification Outcomes in Large Metropolitan School Districts (published by FNS in 2004) (Office of Management and Budget number 0584-0516 Evaluation of the NSLP Application and Verification and Pilot Program, expiration date 10/31/2003). Consistent with the previous study, the study team will purposively select 20 participating school districts for a case study, describe the districts' verification outcomes, and independently verify eligibility for two samples of households approved by application on the basis of income and selected for verification by the district. These two household samples include: (1) Households that did not respond to the school meals application verification requests, and (2) households that responded to verification requests and experienced no change in school meals benefits. The 2004 study will be expanded by: (1) Including at least one rural district in the case study, (2) interviewing school district officials about processes for selecting applications for cause, (3) analyzing verification outcomes for applications selected for cause, (4) analyzing households' reasons for not responding to district verification requests, and (5) redesigning the 2004 analyses to reflect policy changes enacted since 2004.

Affected Public: Affected public include: individuals/households, and state, local, and tribal government. Specifically, participants from districts selected to participate in the study are: (1) Households that did not respond to school meals application verification requests, (2) households that responded to verification requests and experienced no change in school meals benefits, and (3) School Food Authority (SFA) Directors and/or designees.

Estimated Number of Respondents: The total estimated number of respondents is 2,075. This includes 2,055 households and 20 SFA Directors or designees. Across 20 school districts, household sampling will yield: (1) Up to 1,235 households in the nonresponding group (42 completed surveys per district × 20 districts = 840 households, plus 395 households who do not consent to participate) and (2) up to 820 households in the unchanged benefits group (32 completes per district × 20 districts = 640 households, plus 180 households who do not consent to participate). Of these 2,055 households, 1,480 respondents and 575 non-respondents are anticipated. Twenty (20) SFA Directors or designees will be sampled and these individuals will: (a) Help facilitate study logistics, (b) coordinate data requests and household sampling in fall 2017, (c) complete a 15-minute phone interview, and (d) provide an updated list of household reapplications and their results in spring 2018.

Estimated Number of Responses per Respondent: The estimated number of responses across the entire collection is 1.03. The study asks each selected household respondent to participate in one in-person survey. The study also asks each SFA Director or designee to respond to four study-related requests: (1) Helping the study team's participation coordinator with study logistics, (2) helping coordinate data requests and household sampling in fall 2017, (3) helping coordinate data requests in spring 2018, and (4) completing a 15-minute phone interview.

Estimated Total Annual Responses: 2,135.

Estimated Time per Response: The average estimated time per response across the entire collection is 34 minutes (0.57 hours). The estimated time of response varies from 5 minutes to 1.5 hours, as shown in the table below. These estimates include a 45-minute (0.75 hour) computer-assisted personal interviewing (CAPI) survey of each household respondent, and a combined 3.25 hours of response time for each SFA Director or designee. For the SFA Directors, the 3.25 hours includes the time it will take them to respond to all 4 study-related requests.

Estimated Total Annual Burden on Respondents: 73,363.8 minutes (1,222.73 hours). See the table below for estimated total annual burden for each type of respondent.

Respondent | Data collection activity | Estimated number of respondents | Responses annually per respondent | Total annual responses | Estimated average number of hours per response | Estimated total hours
Reporting Burden
Household survey participants | CAPI interview (Respondents) (Includes advance letters and follow-up communications) | 1,480 | 1 | 1,480 | 0.75 | 1,110.00
| CAPI interview (Non-Respondents) (Includes advance letters) | 575 | 1 | 575 | 0.083 | 47.73
SFA Directors or designees | Logistics (Includes advance letters and follow-up communications) | 20 | 1 | 20 | 1 | 20
| Fall 2017 data request | 20 | 1 | 20 | 1.5 | 30
| Telephone interview | 20 | 1 | 20 | 0.25 | 5
| Spring 2018 data request | 20 | 1 | 20 | 0.5 | 10
Total Reporting Burden |  | 2,075 | 1.03 | 2,135 | 0.57 | 1,222.73

Dated: December 13, 2016.
Audrey Rowe,
Administrator, Food and Nutrition Service.

[FR Doc. 2016-31181 Filed 12-23-16; 8:45 am]

BILLING CODE 3410-30-P